DEPARTMENT OF ENERGY

Federal Energy Regulatory Commission

[Docket No. CP07-22-000]

Georgia-Pacific Corporation; Notice of Application

November 9, 2006.

Take notice that on October 31, 2006, pursuant to Section 7(b) of the Natural Gas Act and 18 CFR Parts 157 and 284 of the regulations of the Commission, Georgia-Pacific Corporation (GP Corp) filed with the Commission an Abbreviated Application of GP Corp to Abandon Certificate and Request to Obtain Part 284 Blanket Certificate.

GP Corp requests authorization pursuant to section 7(b) of the NGA to abandon its certificate to provide transportation through its existing facility consisting of a 19.5 mile, 8-inch natural gas pipeline (Crossett Pipeline). At the same time, pursuant to section 7 of the NGA and Part 284, Subpart G of the Commission's regulations, GP Corp requests that the Commission issue a blanket certificate authorizing GP Corp to provide open-access natural gas transportation services through the Crossett Pipeline to its three affiliates that will be leasing the Crossett Plants.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time November 27, 2006.

Magalie R. Salas,
Secretary.

[FR Doc. E6-19353 Filed 11-15-06; 8:45 am]

BILLING CODE 6717-01-P